DEPARTMENT OF COMMERCE

Foreign-Trade Zones Board

[B-55-2013]

Subzone 26G, Authorization of Production Activity, Roper Corporation, (Kitchen Ranges), Lafayette, Georgia

On May 21, 2013, Roper Corporation submitted a notification of proposed production activity to the Foreign-Trade Zones (FTZ) Board for its facility within Subzone 26G, in Lafayette, Georgia.

The notification was processed in accordance with the regulations of the FTZ Board (15 CFR part 400), including notice in the Federal Register inviting public comment (78 FR 33809, June 5, 2013). The FTZ Board has determined that no further review of the activity is warranted at this time. The production activity described in the notification is authorized, subject to the FTZ Act and the Board's regulations, including Section 400.14.

Dated: September 18, 2013.
Andrew McGilvray,
Executive Secretary.

[FR Doc. 2013-23653 Filed 9-26-13; 8:45 am]

BILLING CODE 3510-DS-P